DEPARTMENT OF DEFENSE

GENERAL SERVICES ADMINISTRATION

NATIONAL AERONAUTICS AND SPACE ADMINISTRATION

48 CFR Parts 3, 5, 7, and 10

[FAC 2005-47; Item VII; Docket 2010-0110, Sequence 1]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: December 13, 2010.

FOR FURTHER INFORMATION CONTACT: The FAR Secretariat, 1275 First St., NE., Washington, DC 20417, (202) 501-4755, for information pertaining to status or publication schedules. Please cite FAC 2005-47, Technical Amendments.

SUPPLEMENTARY INFORMATION: This document makes amendments to the Federal Acquisition Regulation (FAR) in 48 CFR parts 3, 5, 7, and 10 for purposes of updating.

List of Subjects in 48 CFR Parts 3, 5, 7, and 10

Government procurement.

Dated: November 24, 2010.
Millisa Gary,
Acting Director, Acquisition Policy Division.

Therefore, DoD, GSA, and NASA amend 48 CFR parts 3, 5, 7, and 10 as set forth below:

1. The authority citation for 48 CFR parts 3, 5, 7, and 10 continues to read as follows:

Authority: 40 U.S.C. 121(c); 10 U.S.C. chapter 137; and 42 U.S.C. 2473(c).

PART 3—IMPROPER BUSINESS PRACTICES AND PERSONAL CONFLICTS OF INTEREST

3.104-1 [Amended]

2. Amend section 3.104-1 by removing from the definition “Federal agency procurement,” in the second sentence, the word “innovative” and adding the word “innovation” in its place.

PART 5—PUBLICIZING CONTRACT ACTIONS

5.601 [Amended]

3. Amend section 5.601 by removing from paragraphs (a), (b)(1), and (b)(2) “http://www.contractdirectory.gov” and adding “http://www.contractdirectory.gov/contractdirectory/” in its place.

PART 7—ACQUISITION PLANNING

7.105 [Amended]

4. Amend section 7.105 by removing from paragraph (b)(1), in the second sentence, “http://www.contractdirectory.gov” and adding “http://www.contractdirectory.gov/contractdirectory/” in its place.

PART 10—MARKET RESEARCH

10.002 [Amended]

5. Amend section 10.002 by removing from paragraph (b)(2)(iv) “http://www.contractdirectory.gov” and adding “http://www.contractdirectory.gov/contractdirectory/” in its place.

[FR Doc. 2010-30567 Filed 12-10-10; 8:45 am]

BILLING CODE 6820-EP-P